DEPARTMENT OF THE INTERIOR

Bureau of Indian Affairs

[245A2100DD/AAKC001030/A0A51010.999900]

Notice of Deadline for Submitting Completed Applications To Begin Participation in the Tribal Self-Governance Program in Fiscal Year 2025 or Calendar Year 2025

AGENCY: Bureau of Indian Affairs, Interior.

ACTION: Notice of application deadline.

SUMMARY: In this notice, the Office of Self-Governance (OSG) establishes a deadline for Indian tribes/consortia to submit completed applications to begin participation in the tribal self-governance program in fiscal year 2025 or calendar year 2025.

DATES: Completed application packages must be received by the Director, Office of Self-Governance, by March 1, 2024.

ADDRESSES: Application packages for inclusion in the applicant pool should be sent to Sharee M. Freeman, Director, Office of Self-Governance, Department of the Interior, Mail Stop 3624-MIB, 1849 C Street NW, Washington, DC 20240.

FOR FURTHER INFORMATION CONTACT: Vickie Hanvey, Office of Self Governance, Vickie.Hanvey@bia.gov; Telephone (918) 931-0745. Individuals in the United States who are deaf, deafblind, hard of hearing, or have a speech disability may dial 711 (TTY, TDD, or TeleBraille) to access telecommunications relay services.

SUPPLEMENTARY INFORMATION: Under the Tribal Self-Governance Act of 1994 (Public Law 103-413), as amended by the Practical Reforms and Other Goals to Reinforce the Effectiveness of Self-Governance and Self-Determination Act of 2019-2020 and section 402(b)(1)(A) of the Practical Reforms and Other Goals To Reinforce the Effectiveness of Self-Governance and Self-Determination (PROGRESS Act), the Secretary, acting through the Director of the Office of Self-Governance, may select not more than 50 new Indian Tribes per year from those eligible tribes. The application deadline listed in the DATES section is predicated upon providing the parties enough time to complete funding agreement negotiations in advance of the FY or CY start date of the 2025 funding agreement. The Act mandates that copies of the funding agreements be sent at least 90 days before the proposed effective date to each Tribe that is served by the Bureau of Indian Affairs' agency that is serving the Tribe that is a party to the funding agreement. Initial negotiations with a Tribe/consortium located in a region and/or agency which has not previously been involved with self-governance negotiations will take approximately 2 months from start to finish. Agreements for an October 1 to September 30 funding year need to be signed and submitted by July 1. Agreements for a January 1 to December 31 need to be signed and submitted by October 1.

Purpose of Notice

The regulations at 25 CFR 1000.10 through 1000.31 have been modified by section 201 of the newly enacted PROGRESS Act as follows:

Section 201. Definitions; reporting and audit requirements; application of programs.

To be eligible to participate in self-governance, an Indian Tribe shall:

(1) successfully complete the planning phase described in subsection (d);

(2) request participation in self-governance by resolution or other official

action by the Tribal governing body; and

(3) demonstrate for the 3 fiscal years preceding the date on which the Tribe requests participation, fiscal stability and financial management capability as evidenced by the Indian Tribe having no uncorrected significant and internal audit exceptions in the required annual audit of its self-determination or self-governance agreements with any Federal agency.

An Indian Tribe seeking to begin participation in self-governance shall complete the planning phase. The planning phase shall:

(A) be conducted to the satisfaction of the Indian Tribe; and

(B) include:

(i) legal and budgetary research; and

(ii) internal Tribal governing planning, training, and organizational preparation.

Applicants should be guided by the referenced requirements in preparing their applications to begin participation in the tribal self-governance program in fiscal year 2025 and calendar year 2025. Copies of these requirements may be obtained from the information contact person identified in this notice.

Tribes/consortia wishing to be considered for participation in the tribal self-governance program in fiscal year 2025 or calendar year 2025 must respond to this notice, except for those tribes/consortia which are one of the 142 tribal entities with signed self-governance agreements.

Information Collection

This information collection is authorized by OMB Control Number 1076-0143, Tribal Self-Governance Program, which expires February 28, 2026.

Bryan Newland,
Assistant Secretary—Indian Affairs.

[FR Doc. 2024-02639 Filed 2-8-24; 8:45 am]

BILLING CODE 4337-15-P